DEPARTMENT OF TRANSPORTATION

National Highway Traffic Safety Administration

[U.S. DOT Docket Number NHTSA-2007-27625]

Reports, Forms and Recordkeeping Requirements; Agency Information Collection Activity Under OMB Review

AGENCY: National Highway Traffic Safety Administration (NHTSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on March 23, 2007 [72 FR 13856].

DATES: Comments must be submitted on or before July 30, 2007.

FOR FURTHER INFORMATION CONTACT: Gayle Dalrymple at the National Highway Traffic Safety Administration (NHTSA), Office of Crash Avoidance Standards, 202-366-5559. 1200 New Jersey Ave., SE., Washington, DC 20590.

SUPPLEMENTARY INFORMATION:

National Highway Traffic Safety Administration

Title: Exemption from the Make Inoperative Prohibition.

OMB Number: 2127-0635.

Type of Request: Renewal.

Abstract: On February 27, 2001, NHTSA published a final rule (66 FR 12638) to facilitate the modification of a motor vehicle so that persons with disabilities can use the vehicle. The regulation is found at 49 CFR Part 595 Subpart C—Vehicle Modifications to Accommodate People with Disabilities. This final rule included two new “collection of information,” as that term is defined in 5 CFR Part 1320 Controlling Paperwork Burdens on the Public: modifier identification and a document to be provided to the owner of the modified vehicle stating the exemptions used for that vehicle and any reduction in load carrying capacity of the vehicle of more than 100 kg (220 lbs).

Affected Public: Business that modify vehicles, after the first retail sale, so that the vehicle may be used by persons with disabilities.

Estimated Total Annual Burden: 933 hours and $14.21.

ADDRESSES: Send comments, within 30 days, to the Office of Information and Regulatory Affairs, Office of Management and Budget, 725 17th Street, NW., Washington, DC 20503, Attention NHTSA Desk Officer.

Comments Are Invited On

• Whether the proposed collection of information is necessary for the proper performance of the functions of the Department, including whether the information will have practical utility.

• Whether the Department's estimate of the burden of the proposed information collection is accurate.

• Ways to minimize the burden of the collection of information on respondents, including the use of automated collection techniques or other forms of information technology.

A comment to OMB is most effective if OMB receives it within 30 days of publication.

Roger A. Saul,
Director, Office of Crashworthiness Standards.

[FR Doc. E7-12464 Filed 6-27-07; 8:45 am]

BILLING CODE 4910-59-P